DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e.: interpreting services, assistive listening devices, materials in alternative format) should notify Munira Mwalimu at 202-357-6938 or at: Munira.Mwalimu@ed.gov no later than July 27, 2007. We will attempt to meet requests after this date, but cannot guarantee availability of the requested accommodation. The meeting site is accessible to individuals with disabilities.

DATES: August 2-4, 2007.

Times

August 2

Committee Meetings

Assessment Development Committee: Closed Session—8:30 a.m. to 4 p.m.

Executive Committee: Open Session—4:30 p.m. to 5 p.m.; Closed Session—5 p.m. to 6 p.m.

August 3

Full Board: Open Session—8:30 a.m. to 9 a.m..; Closed Session—12:15 p.m. to 1:45 p.m.; Open Session—1:45 p.m. to 4:30 p.m.

Committee Meetings

Assessment Development Committee: Open Session—9:15 a.m. to 12:15 p.m.

Joint Session: Committee on Standards, Design and Methodology and the Reporting and Dissemination Committee: Closed Session—9:15 a.m. to 10 a.m.

Committee on Standards, Design and Methodology: Open Session—10 a.m. to 12:15 p.m.

Reporting and Dissemination Committee: Open Session—10 a.m. to 12:15 p.m.

August 4

Nominations Committee: Closed Session—7:45 a.m. to 8:15 a.m.

Full Board: Open Session—9 a.m. to 12 p.m.

Location: The Ritz Carlton Tysons Corner, 1700 Tysons Boulevard, McLean, VA 22102.

FOR FURTHER INFORMATION CONTACT: Munira Mwalimu, Operations Officer, National Assessment Governing Board, 800 North Capitol Street, NW., Suite 825, Washington, DC 20002-4233, telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On August 2, 2007, the Assessment Development Committee will meet in closed session from 8:30 a.m. to 4 p.m. to review secure science pilot items for grades 4, 8, and 12 for the 2009 National Assessment of Educational Progress (NAEP) Science Pilot. The meeting must be conducted in closed session as disclosure of proposed test items for the science pilot would significantly impede implementation of the NAEP program, and is therefore protected by exemption 9(B) of section 552b(c) of Title 5 U.S.C.

On August 2, the Executive Committee will meet in closed session from 5 p.m. to 6 p.m. for the following briefing and discussions:

(1) The Committee will receive independent government cost estimates from the Associate Commissioner of the National Center for Education Statistics, for options affecting operations under contracts covering the 2008-2012 assessment years. The discussion of independent government cost estimates is necessary for ensuring that NAEP contracts meet congressionally mandated goals and adhere to Board policies on NAEP assessments. This part of the meeting must be conducted in closed session because public disclosure of this information would likely have an adverse financial effect on the NAEP program and will provide an advantage to bidders attending the meeting. The meeting must therefore be conducted in closed session as disclosure of data would significantly impede implementation of the NAEP release activities, and is therefore protected by exemption 9(B) of section 552b(c) of Title 5 U.S.C.

(2) The Committee will discuss Governing Board staff reappointments and the nomination of the Vice Chair of the Board for the one-year term beginning October 1, 2007. These discussions pertain solely to internal personnel rules and practices of an agency and will disclose information of a personal nature where disclosure would constitute an unwarranted invasion of personal privacy. As such, the discussions are protected by exemptions 2 and 6 of section 552b(c) of Title 5 U.S.C.

On August 3, the full Board will meet in open session from 8:30 a.m. to 9 a.m. The Board will approve the agenda, receive the Executive Director's report, and hear an update on the work of the National Center for Education Statistics (NCES). The Board's standing committees will meet from 9:15 a.m. to 12:15 p.m.

The Assessment Development Committee will meet in open session on August 3 from 9:15 a.m. to 12:15 p.m. The Committee on Design and Methodology and the Reporting and Dissemination Committee will meet in a joint closed session on August 3 from 9:15 a.m. to 10 a.m. to receive a briefing on secure data on participation, and inclusion and accommodation rates for the 2007 NAEP assessments (Writing at grades 8 and 12 and reading and mathematics at grades 4 and 8). The NAEP reports will not be released until the fall of 2007. The meeting must therefore be conducted in closed session as premature disclosure of data would significantly impede implementation of the NAEP program, and is therefore protected by exemption 9(B) of section 552b(c) of Title 5 U.S.C.

On August 3, the full Board will meet in closed session from 12:15 p.m. to 1:45 p.m. to receive a briefing on results of the 2006 NAEP 12th Grade Economics Report Card. The Governing Board will be provided with embargoed data on the report that cannot be discussed in an open meeting prior to their official release. The meeting must therefore be conducted in closed session as premature disclosure of data would significantly impede implementation of the NAEP program, and is therefore protected by exemption 9(B) of section 552b(c) of Title 5 U.S.C.

On August 3 from 1:45 p.m. to 3:15 p.m. the Board will receive a panel presentation on NAEP Trendline Issues. From 3:30 p.m. to 4:30 p.m., the Board will discuss and take action on the NAEP 2011 Writing Specifications and Background Variables.

On August 4, the Nominations Committee will meet in closed session from 7:45 a.m. to 8:15 a.m. to review and discuss confidential information regarding nominees received for Board vacancies for terms beginning on October 1, 2007. These discussions pertain solely to internal personnel rules and practices of an agency and will disclose information of a personal nature where disclosure would constitute an unwarranted invasion of personal privacy. As such, the discussions are protected by exemptions 2 and 6 of section 552b(c) of Title 5 U.S.C.

The full Board will meet in open session on August 4 from 9 a.m. to 12 noon. From 9 a.m. to 10 a.m., the Board will receive a briefing on NAEP Validity. Board actions on policies and Committee reports are scheduled to take place between 10:15 a.m. and 12 p.m., upon which the August 4, 2007 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Dated: July 12, 2007.
Charles E. Smith,
Executive Director, U.S. Department of Education, National Assessment Governing Board.

[FR Doc. E7-13919 Filed 7-17-07; 8:45 am]

BILLING CODE 4000-01-P